DEPARTMENT OF ENERGY

Western Area Power Administration

Solicitation of Interest for New Transmission Capacity Between Wyoming and Colorado

AGENCY: Western Area Power Administration, DOE.

ACTION: Request for Statements of Interest.

SUMMARY: The electricity corridor between southeastern Wyoming and northeastern Colorado has experienced a transmission constraint for a number of years. This constraint is designated in the Western Electricity Coordinating Council's Path Rating Catalog and referenced in this notice as “TOT 3.”

To examine possibilities for relieving the TOT 3 constraint, the Western Area Power Administration (Western) has entered into a Memorandum of Understanding (MOU) with the Wyoming Infrastructure Authority (WIA) and Trans-Elect, Inc. (Trans-Elect). Under this MOU, Western is soliciting expressions of interest from entities desiring transmission rights on a new line potentially to be built across TOT 3.

DATES: To be assured of consideration, all Statements of Interest should be submitted in a non-confidential manner and received at Western's Rocky Mountain Regional Office by December 15, 2005.

ADDRESSES: Statements of Interest should be mailed to: Mr. Robert Kennedy, Restructuring Manager, Rocky Mountain Region, Western Area Power Administration, 5555 East Crossroads Boulevard, Loveland, CO 80538. Statements of Interest may also be faxed to (970) 461-7423 or e-mailed to rkennedy@wapa.gov.

SUPPLEMENTARY INFORMATION: TOT 3, a long-recognized transmission constraint between Colorado and Wyoming, has been the subject of many studies and reports over the past several years. Most recently, the September 2004 “Rocky Mountain Area Transmission Study” (RMATS) report identified TOT 3 as a transmission expansion project that, if and when completed, could bring substantial benefits to the area by encouraging the siting and construction of low-cost clean coal and wind projects in Wyoming to serve the electricity needs of customers along Colorado's Front Range. Such a project is supported by Wyoming's Governor David Freudenthal, the Wyoming Congressional delegation, and the wide range of stakeholders that comprised the RMATS effort. However, due to economic and operational factors, interest from entities willing to fund transmission capacity expansions across TOT 3 has been significantly less than that envisioned by the RMATS participants. To encourage interested entities to consider participating in the TOT 3 expansion, Western entered into a MOU with WIA and Trans-Elect as part of a collaborative attempt to examine possibilities for constructing such a project.

The three MOU parties represent a diverse range of stakeholder interests. Western, a power marketing administration within the Department of Energy, has extensive experience in transmission operations, construction, and maintenance across its 15-state service territory. Western has general authority under the Department of Energy Organization Act to construct, operate, and maintain transmission lines and related facilities, and is a partial owner of the existing transmission capacity across, and the path operator of, TOT 3. WIA was formed in June 2004 by the State of Wyoming to facilitate expansion of the state's transmission system, including TOT 3, and has been granted bonding authority by the State legislature for that purpose. Trans-Elect is an independent transmission developer, owner, and operator. Trans-Elect previously partnered with Western on the Path 15 transmission expansion project in California.

Western is issuing this notice to solicit the interest of entities desiring new transmission capacity across TOT 3. WIA and Trans-Elect will contribute the funding and staffing necessary to conduct (1) coordination meetings among interested entities, and (2) feasibility studies that may be generated as a result of those meetings. Western has agreed to provide technical assistance for the feasibility studies, but has no project-related funding commitments.

Specifically, Western seeks to identify all entities interested in acquiring transmission rights on a new 500-megawatt line potentially to be built across TOT 3, the cost of which was estimated by the RMATS study to be $318 million for a 345-kilovolt project. Interested entities should submit Statements of Interest including the following information:

1. Name and general description of the entity.

2. Name, mailing address, telephone number, facsimile number, and e-mail address of the entity's primary contact.

3. Amount of transmission rights the entity may desire if and when the project is completed.

Western will compile and forward all Statements of Interest to WIA and Trans-Elect. Accordingly, to be assured of consideration, Statements of Interest should be submitted in a non-confidential manner as discussed previously.

Dated: November 3, 2005.
Michael S. Hacskaylo,
Administrator.

[FR Doc. 05-22628 Filed 11-14-05; 8:45 am]

BILLING CODE 6450-01-P